DEPARTMENT OF THE TREASURY

Submission for OMB Review; Comment Request

August 11, 2009.

The Department of the Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 17, 2009 to be assured of consideration.

Bureau of Public Debt (BPD)

OMB Number: 1535-0100.

Type of Review: Extension.

Title: Affidavit by Individual Surety.

Form: PDF 4094.

Description: Affidavit from individual acting as surety for indemnification agreement for lost, stolen or destroyed securities.

Respondents: Individuals or Households.

Estimated Total Burden Hours: 460 hours.

OMB Number: 1535-0063.

Type of Review: Extension.

Title: Request for payment or reissue of U.S. Savings Bonds deposited in Safekeeping.

Form: PDF 4239.

Description: Used to request reissue or payment of bonds in safekeeping when custody receipts are not available.

Respondents: Individuals or Households.

Estimated Total Burden Hours: 34 hours.

OMB Number: 1535-0048.

Type of Review: Extension.

Title: Certificate of Identity.

Form: PDF 385.

Description: The form is used to establish the identity of the owner of U.S. Savings Securities.

Respondents: Individuals or Households.

Estimated Total Burden Hours: 50 hours.

Clearance Officer: Judi Owens, (304) 480-8150, Bureau of the Public Debt, 200 Third Street, Parkersburg, West Virginia 26106.

OMB Reviewer: Shagufta Ahmed, (202) 395-7873, Office of Management and Budget, Room 10235, New Executive Office Building, Washington, DC 20503.

Celina Elphage,
Treasury PRA Clearance Officer.

[FR Doc. E9-19786 Filed 8-17-09; 8:45 am]

BILLING CODE 4810-39-P